DEPARTMENT OF TRANSPORTATION

Surface Transportation Board

[Docket No. FD 35563]

Chicago, Central & Pacific Railroad Company—Trackage Rights Exemption—Cedar River Railroad Company

Pursuant to a written trackage rights agreement, Cedar River Railroad Company (CEDR) has agreed to grant nonexclusive overhead and local trackage rights to Chicago, Central & Pacific Railroad Company (CCP) ¹ over 3.0 miles of rail line between the connection with CCP at milepost 0.0 at Mona Junction and milepost 3.0 at Dunkerton Road, in Cedar Falls, Iowa.²

¹ CEDR and CCP are indirect subsidiaries of Canadian National Railway Company.

² A redacted, executed trackage rights agreement between CEDR and CCP was filed with the notice of exemption. The unredacted version was filed under seal along with a motion for protective order, which will be addressed in a separate decision.

The transaction is scheduled to be consummated on January 13, 2012, the effective date of the exemption (30 days after the exemption was filed).

The trackage rights will permit CCP to operate its trains in freight service with its own crews, including the right to enter and exit the trackage at CEDR's connection to the Cedar Falls Industrial Park near milepost 0.8 in Cedar Falls. In addition, the proposed trackage rights will allow CCP and CEDR to improve the efficiency of their operations in the Cedar Falls area.

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980), and any employees affected by the discontinuance of those trackage rights will be protected by the conditions set out in Oregon Short Line Railroad—Abandonment Portion Goshen Branch Between Firth and Ammon, in Bingham and Bonneville Counties, Idaho, 360 I.C.C. 91 (1979).

This notice is filed under 49 CFR 1180.2(d)(7). If the notice contains false or misleading information, the exemption is void ab initio. Petitions to revoke the exemption under 49 U.S.C. 10502(d) may be filed at any time. The filing of a petition to revoke will not automatically stay the transaction. Petitions for stay must be filed by January 6, 2012 (at least 7 days before the exemption becomes effective).

An original and 10 copies of all pleadings, referring to Docket No. FD 35563, must be filed with the Surface Transportation Board, 395 E Street SW., Washington, DC 20423-0001. In addition, a copy of each pleading must be served on Jeremy M. Berman, 29 N. Wacker Dr., Suite 920, Chicago, IL 60606.

Board decisions and notices are available on our Web site at www.stb.dot.gov.

Decided: December 23, 2011.
By the Board.
Rachel D. Campbell,
Director, Office of Proceedings.
Jeffrey Herzig,
Clearance Clerk.

[FR Doc. 2011-33525 Filed 12-29-11; 8:45 am]

BILLING CODE 4915-01-P